DEPARTMENT OF JUSTICE

Antitrust Division

Notice Pursuant to the National Cooperative Research and Production Act of 1993—International Association of Plumbing and Mechanical Officials

Notice is hereby given that, on December 10, 2004, pursuant to Section 6(a) of the National Cooperative Research and Production Act of 1993, 15 U.S.C. 4301 et seq. (“the Act”), International Association of Plumbing and Mechanical Officials (“IAPMO”) has filed written notifications simultaneously with the Attorney General and the Federal Trade Commission disclosing additions or changes to its standards development activities. The notifications were filed for the purpose of extending the Act's provisions limiting the recovery of antitrust plaintiffs to actual damages under specified circumstances. Specifically, the nature and scope of IAPMO's standards development activities are: to provide for the erection, installation, alternation, addition, repair, relocation, replacement, maintenance, or use of any solar, swimming pool, spa or hot tub system.

On September 14, 2004, IAPMO filed its original notification pursuant to Section 6(a) of the Act. The Department of Justice published a notice in the Federal Register pursuant to section 6(b) of the Act on November 29, 2004 (69 FR 69396).

Dorothy B. Fountain,
Deputy Director of Operations, Antitrust Division.

[FR Doc. 05-1980 Filed 2-1-05; 8:45 am]

BILLING CODE 4410-11-M